DEPARTMENT OF STATE

[Public Notice 10928]

Determination Pursuant to the Foreign Missions Act

Pursuant to the authority vested in the Secretary of State under the Foreign Missions Act, 22 U.S.C. 4301, et seq. (“the Act”), and delegated pursuant to Department of State Delegation of Authority No. 214 of September 20, 1994, I hereby determine it is reasonably necessary to achieve one or more of the purposes set forth in section 204(b) of the Act (22 U.S.C. 4304(b)) to require all Chinese military personnel assigned to the Embassy of the People's Republic of China or its consular posts in the United States, including PRC military personnel temporarily working in the United States, to provide prior notification of their plans to travel for either official or personal purposes beyond a 25 miles radius of their post of assignment or destination city if present in the United States on a short-term assignment, regardless of their mode of transportation or destination.

The implementation of these requirements is subject to any additional terms and conditions approved by the Director or Deputy Director of the Office of Foreign Missions.

Stephen J. Akard,
Director, Office of Foreign Missions.

[FR Doc. 2019-22898 Filed 10-18-19; 8:45 am]

BILLING CODE 4710-43-P